POSTAL SERVICE

39 CFR Part 20

New Outbound Commercial Provider Initiative (OCPI) Program Information; Opportunity for Comments

AGENCY: Postal Service™.

ACTION: Advance notice of proposed rulemaking; invitation to comment.

SUMMARY: The Postal Service is providing an advance notification and introduction to the Outbound Commercial Provider Initiative (OCPI) program. This document provides general information on the OCPI program, related mailing requirements, and shipping standards. The Postal Service is exploring the advisability of the OCPI program and providing support to mailers to assure their ability to adhere to the new OCPI program guidelines.

DATES: Comments on this advance notice are due March 3, 2021.

ADDRESSES: Due to the current COVID-19 pandemic, comments in response to this document will only be accepted via email—any comments or communications sent via fax or mail will not be accepted.

When sending communication and comments related to the OCPI program, the following instructions and guidelines apply:

• All comments and questions should be sent to the Manager, International Products and Major Accounts, Global Business, at the following email address: ProductClassification@usps.gov.

• Communications must also include the following:

○ Subject Line: OCPI Program Advanced Notice Comments

○ Name of Sender

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review Monday through Friday, 9 a.m. to 4 p.m., by calling 202-268-2906.

FOR FURTHER INFORMATION CONTACT: Frank Cebello, 202-268-8058; or GlobalBusinessOCPI@usps.gov.

SUPPLEMENTARY INFORMATION: The Postal Service is providing this notification to set forth the following general information and guidelines for the OCPI program:

1. An overview of the OCPI program with general information to advise and notify USPS customers, partners, and affiliates;

2. Discussion of the countries and specific products that will be serviced through the OCPI program; and

3. Specific changes and requirements associated with the OCPI program, relating to mail preparation, induction, and acceptance, such as:

i. Customs Form(s), shipping label(s), and tag(s),

ii. New, OCPI-specific Commercial Invoice, and

iii. Process changes and requirements related to OCPI service provider destinations

4. References for advanced notifications of OCPI program feature changes.

Overview

The Postal Service expects to implement these new program service enhancements on or about March 31, 2021.

As cross-border eCommerce continues to grow and demand for a variety of shipping solutions continues, the Postal Service has encountered a need to identify alternatives for commercial shipments going through its international mail streams. The Postal Service relies entirely on foreign postal operators to deliver our customer packages worldwide, making outbound shipments subject to several limitations including shipping rates, transit times, and scan visibility. The rapidly expanding eCommerce market coupled with the increase in competition has motivated the Postal Service to explore alternate delivery service channels and competitive market strategies for product offerings in order to provide the services that customers demand, while remaining competitive in the global eCommerce market.

The Outbound Commercial Provider Initiative (OCPI) is a strategic program designed to help the Postal Service remain competitive in the cross-border shipping market, whereby it can effectively compete with alternative providers. OCPI also enables the continuity of service in situations where issues arise with foreign postal operators, such as strikes, unfavorable bilateral negotiations, COVID-19 impacts, or significant service issues. Creating an alternative channel also offers opportunities for providing enhanced service options. Additional benefits of the OCPI Program include but are not limited to:

• Offering new services that are currently unavailable through the postal channels;

• Improving service delivery times because of options to deliver products by commercial suppliers to select countries; and

• Providing a more enhanced customer experience, through advancements in customer service and package visibility on international outbound operations.

OCPI Program Country-Product Service Enhancements

The Postal Service will be identifying opportunities and selecting designated country destinations and products for the OCPI program. Destination product and country pairings for OCPI will be the exclusive delivery options, however existing service will continue for destinations for which OCPI solutions are not offered. The products offered through the OCPI program will be international shipping services, limited to Priority Mail Express International® (PMEI®), Priority Mail International (PMI), and First-Class Package International Service® (FCPIS®). This allows for a more seamless transition for existing customers and mailers and avoids the confusion and capital that would be required to create and launch new dedicated OCPI product offerings. Products such as FCMI letters and Flats, Military Mail, IPA, and ISAL are not within the scope of the OCPI program. After publishing this document, the Postal Service will provide a more detailed description of the applicable OCPI changes to the existing products and procedures for USPS customers. The country-product designated for the OCPI program may change depending on future opportunities identified and potential foreign postal operator-related service disruptions.

Mail Preparation

For customers that tender shipments to the Postal Service in bulk and or consolidations, all shipments sent to OCPI destinations must be presented separately and in individually prepared receptacles by product class and destination country. Specific products that are destined for OCPI destination countries may not be tendered in any mixed country receptacles.

OCPI Commercial Invoices

The OCPI program will require mailers to produce commercial invoices and customs forms to comply with commercial customs clearance requirements and differentiate OCPI documentation from existing postal forms. The OCPI program will also require additional recipient information to be provided by the sender (including recipient's phone number and email address) to comply with commercial clearance processes. The OCPI forms will be made available to mailers via online applications and electronically at USPS retail service counters.

OCPI Receptacle Tags and Customs Forms

The OCPI program has developed specific receptacle tags and customs forms which will allow operations personnel to identify and segregate OCPI products throughout the entire supply chain. In addition to International Mail Manual (IMM) updates, the Postal Service will provide industry notifications to inform all parties of OCPI program changes and provide examples of the new OCPI receptacle tags and customs forms to help integrate changes into the existing operational processes.

OCPI Program Features and Service Notifications

The Postal Service will provide a minimum of advanced 30-day notification regarding upcoming OCPI services or feature changes via Postal Bulletins articles and PostalPro. Additionally, the Postal Service will provide updated mailer requirements to assist business mailers and provide support throughout the transition process to ensure a smooth transition.

Joshua J. Hofer,
Attorney, Federal Compliance.

[FR Doc. 2020-28968 Filed 1-29-21; 8:45 am]

BILLING CODE P